DEPARTMENT OF LABOR

Office of Federal Contract Compliance Programs

41 CFR Parts 60-250 and 60-300

RIN 1250-AA00

Affirmative Action and Nondiscrimination Obligations of Contractors and Subcontractors Regarding Protected Veterans

AGENCY: Office of Federal Contract Compliance Programs, Labor.

ACTION: Notice of proposed rulemaking and extension of comment period.

SUMMARY: On April 26, 2011, the Office of Federal Contract Compliance Programs (OFCCP) published a Federal Register notice of proposed rulemaking (NPRM). This NPRM proposes revising regulations implementing the affirmative action provisions of the Vietnam Era Veterans' Readjustment Assistance Act of 1974, as amended. This document extends the comment period for the proposed rule for fourteen (14) days. If you have already commented on the proposed rule you do not need to resubmit your comment. OFCCP will consider all comments received from the date of publication of the proposed rule through the close of the extended comment period.

DATES: The comment period for the NPRM published on April 26, 2011 (76 FR 23358), scheduled to close on June 27, 2011, is extended until July 11, 2011.

ADDRESSES: You may submit comments, identified by RIN 1250-AA00, by any of the following methods:

• Federal eRulemaking Portal: http://www.regulations.gov. Follow the instructions for submitting comments.

• Fax: (202) 693-1304 (for comments of six pages or fewer).

• Mail: Debra A. Carr, Director, Division of Policy, Planning, and Program Development, Office of Federal Contract Compliance Programs, Room C-3325, 200 Constitution Avenue, NW., Washington, DC 20210.

FOR FURTHER INFORMATION CONTACT: Debra A. Carr, Director, Division of Policy, Planning, and Program Development, Office of Federal Contract Compliance Programs, Room C-3325, 200 Constitution Avenue, NW., Washington, DC 20210.

SUPPLEMENTARY INFORMATION: On April 26, 2011, OFCCP published a proposed rule entitled “Affirmative Action and Nondiscrimination Obligations of Contractors and Subcontractors Regarding Protected Veterans” (76 FR 23358). OFCCP was to receive comments on this NPRM on or before June 27, 2011.

Various organizations submitted requests to extend the comment period by an additional sixty (60) days or more. We considered these requests and determined that it is appropriate to provide an additional 14-day period for comment on the proposed regulation. We are, therefore, extending the comment period until Monday, July 11, 2011.

Extension of Comment Period

OFCCP determined that the public could use additional time to review the potential impact of the proposed requirements. Therefore, to allow the public sufficient time to review and comment on the NPRM, OFCCP is extending the comment period until July 11, 2011.

Signed at Washington, DC, this 17th day of June 2011.
Patricia Shiu,
Director, Office of Federal Contract Compliance Programs.

[FR Doc. 2011-15646 Filed 6-21-11; 8:45 am]

BILLING CODE 4510-45-P